DEPARTMENT OF TRANSPORTATION

Federal Aviation Administration

14 CFR Part 71

[Docket No. FAA-2021-0003; Airspace Docket No. 21-ACE-5]

RIN 2120-AA66

Proposed Amendment of Class D and E Airspace and Revocation of Class E Airspace; Cape Girardeau, MO

AGENCY: Federal Aviation Administration (FAA), DOT.

ACTION: Notice of proposed rulemaking (NPRM).

SUMMARY: This action proposes to amend the Class D and Class E airspace and to revoke Class E airspace at Cape Girardeau Regional Airport, Cape Girardeau, MO. The FAA is proposing this action as the result of an airspace review caused by the decommissioning of the Marion VHF omnidirectional range (VOR) navigation aid as part of the VOR Minimum Operational Network (MON) Program. The name of the localizer would also be updated to coincide with the FAA's aeronautical database.

DATES: Comments must be received on or before June 14, 2021.

ADDRESSES: Send comments on this proposal to the U.S. Department of Transportation, Docket Operations, West Building Ground Floor, Room W12-140, 1200 New Jersey Avenue SE, Washington, DC 20590; telephone (202) 366-9826, or (800) 647-5527. You must identify FAA Docket No. FAA-2021-0003, Airspace Docket No. 21-ACE-5 at the beginning of your comments. You may also submit comments through the internet at https://www.regulations.gov. You may review the public docket containing the proposal, any comments received, and any final disposition in person in the Dockets Office between 9:00 a.m. and 5:00 p.m., Monday through Friday, except federal holidays.

FAA Order 7400.11E, Airspace Designations and Reporting Points, and subsequent amendments can be viewed online at https://www.faa.gov/air_traffic/publications/. For further information, you can contact the Airspace Policy Group, Federal Aviation Administration, 800 Independence Avenue SW, Washington, DC 20591; telephone (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: John Fornito, Operations Support Group, Eastern Service Center, Federal Aviation Administration, 1701 Columbia Avenue, College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend the Class D airspace; amend the Class E surface airspace; amend the Class E airspace extending upward from 700 feet above the surface; and revoke the Class E airspace area designated as an extension to Class D airspace at Cape Girardeau Regional Airport, Cape Girardeau, MO, to support instrument flight rule operations at this airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2021-0003, Airspace Docket No. 21-ACE-5.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined between 8:00 a.m. and 4:30 p.m., Monday through Friday, except federal holidays, at the office of the Eastern Service Center, Federal Aviation Administration, Room 350, 1701 Columbia Avenue, College Park, GA 30337.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Proposal

The FAA is proposing an amendment to 14 CFR part 71 by:

Amending the Class D airspace at Cape Girardeau Regional Airport, Cape Girardeau, MO, by adding an extension 1 mile each side of the 021° bearing from the airport extending from the 4.1-mile radius to 4.4 miles north of the airport; and adding an extension 1 mile each side of the 106° bearing from the Cape Girardeau RGNL: RWY 10-LOC extending from the 4.1-mile radius of the airport to 4.4 miles east of the Cape Girardeau RGNL: RWY 10-LOC;

Amending the Class E surface airspace at Cape Girardeau Regional Airport by removing the vertical limit on the airspace as it is not required; adding an extension 1 mile each side of the 021° bearing from the airport extending from the 4.1-mile radius to 4.4 miles north of the airport; and adding an extension 1 mile each side of the 106° bearing from the Cape Girardeau RGNL: RWY 10-LOC extending from the 4.1-mile radius of the airport to 4.4 miles east of the Cape Girardeau RGNL: RWY 10-LOC;

Removing the Class E airspace area designated as an extension to Class D and Class E surface area at Cape Girardeau Regional Airport as it is no longer required;

And amending the Class E airspace extending upward from 700 feet above the surface at Cape Girardeau Regional Airport by removing the Cape Girardeau VOR/DME and associated extension from the airspace legal description; updating the bearing of the north extension to 021° (previously 023°); updating the bearing of the east extension to 106° (previously 108°) and changing the reference of the extension to the Cape Girardeau RGNL: RWY 10-LOC (previously the airport); updating the bearing of the south extension to 201° (previously 203°); and updating the bearing of the west extension to 286° (previously 280°); and updating the name of the Cape Girardeau RGNL: RWY 10-LOC (previously Cape Girard Regional Localizer) to coincide with the FAA's aeronautical database.

This action is necessary due to an airspace review caused by the decommissioning of the Marion VOR, which provided navigation information for the instrument procedures this airport, as part of the VOR MON Program.

Class D and E airspace designations are published in paragraph 5000, 6002, 6004, and 6005, respectively, of FAA Order 7400.11E, dated July 21, 2020, and effective September 15, 2020, which is incorporated by reference in 14 CFR 71.1. The Class D and E airspace designation listed in this document will be published subsequently in the Order.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

ACE MO D Cape Girardeau, MO [Amended]

Cape Girardeau Regional Airport, MO

(Lat. 37°13′31″ N, long. 89°34′15″ W)

Cape Girardeau RGNL: RWY 10-LOC

(Lat. 37°13′18″ N, long. 89°33′25″ W)

That airspace extending upward from the surface to and including 2,800 feet within a 4.1-mile radius of Cape Girardeau Regional Airport, and within 1 mile each side of the 021° bearing from the airport extending from the 4.1-mile radius of the airport to 4.4 miles north of the airport, and within 1 mile each side of the 106° bearing from the Cape Girardeau RGNL: RWY 10-LOC extending from the 4.1-mile radius of the airport to 4.4 miles east of the Cape Girardeau RGNL: RWY 10-LOC. This Class D airspace area is effective during the specific dates and times established in advance by a Notice to Airmen. The effective date and time will thereafter be continuously published in the Chart Supplement.

Paragraph 6002 Class E Surface Airspace.

* * * * *

ACE MO E2 Cape Girardeau, MO [Amended]

Cape Girardeau Regional Airport, MO

(Lat. 37°13′31″ N, long. 89°34′15″ W)

Cape Girardeau RGNL: RWY 10-LOC

(Lat. 37°13′18″ N, long. 89°33′25″ W)

That airspace extending upward from the surface within a 4.1-mile radius of Cape Girardeau Regional Airport, and within 1 mile each side of the 021° bearing from the airport extending from the 4.1-mile radius of the airport to 4.4 miles north of the airport, and within 1 mile each side of the 106° bearing from the Cape Girardeau RGNL: RWY 10-LOC extending from the 4.1-mile radius of the airport to 4.4 miles east of the Cape Girardeau RGNL: RWY 10-LOC. This Class E airspace area is effective during the specific dates and times established in advance by a Notice to Airmen. The effective date and time will thereafter be continuously published in the Chart Supplement.

Paragraph 6004 Class E Airspace Designated as an Extension to Class E Surface Area.

* * * * *

ACE MO E4 Cape Girardeau, MO [Removed]

Paragraph 6005 Class E Airspace Areas Extending Upward From 700 Feet or More Above the Surface of the Earth.

* * * * *

ACE MO E5 Cape Girardeau, MO [Amended]

Cape Girardeau Regional Airport, MO

(Lat. 37°13′31″ N, long. 89°34′15″ W)

Cape Girardeau RGNL: RWY 10-LOC

(Lat. 37°13′18″ N, long. 89°33′25″ W)

That airspace extending upward from 700 feet above the surface within a 6.6-mile radius of the Cape Girardeau Regional Airport, and within 1.9 miles each side of the 021° bearing from the airport extending from the 6.6-mile radius of the airport to 7.3 miles north of the airport, and within 3.8 miles each side of the 106° bearing from the Cape Girardeau RGNL: RWY 10-LOC extending from the 6.6-mile radius of the airport to 14 miles east of the Cape Girardeau RGNL: RWY 10-LOC, and within 2 miles each side of the 201° bearing from the airport from the 6.6-mile radius of the airport to 7.5 miles south of the airport, and within 2 miles each side of the 286° bearing from the airport extending from the 6.6-mile radius of the airport to 7.4 miles west of the airport.

Issued in College Park, Georgia, on April 19, 2021.
Andreese C. Davis,
Manager, Airspace & Procedures Team South, Eastern Service Center, Air Traffic Organization.

[FR Doc. 2021-08740 Filed 4-27-21; 8:45 am]

BILLING CODE 4910-13-P